DEPARTMENT OF HOMELAND SECURITY

[Docket No. CISA-2022-0009]

Notice of President's National Security Telecommunications Advisory Committee Meeting

AGENCY: Cybersecurity and Infrastructure Security Agency (CISA), Department of Homeland Security (DHS).

ACTION: Notice of Federal Advisory Committee Act (FACA) meeting; request for comments.

SUMMARY: As stipulated by the Federal Advisory Committee Act, CISA is hereby giving notice that a meeting is scheduled to be held for the President's National Security Telecommunications Advisory Committee (NSTAC). This meeting will be partially closed to the public. The public can access the meeting via teleconference.

DATES:

Meeting Registration: Registration to attend the meeting via teleconference is required and must be received no later than 5 p.m. eastern time (ET) on November 22, 2022. For more information on how to participate, please contact NSTAC@cisa.dhs.gov.

Speaker Registration: Registration to speak during the meeting's public comment period must be received no later than 5 p.m. ET on November 22, 2022.

Written Comments: Written comments must be received no later than 5 p.m. ET on November 22, 2022.

Meeting Date: The NSTAC will meet on December 1, 2022, from 1 p.m. to 5 p.m. ET. The meeting may close early if the committee has completed its business.

ADDRESSES: The December 2022 NSTAC Meeting's open session is set to be held from 3:30 p.m. to 5 p.m. ET in person at 1650 Pennsylvania Avenue NW, Washington, DC 20504; however, members of the public may participate via teleconference only. For access to the conference call bridge, information on services for individuals with disabilities, or to request special assistance, please email NSTAC@cisa.dhs.gov by 5 p.m. ET on November 22, 2022. The NSTAC is committed to ensuring all participants have equal access regardless of disability status. If you require a reasonable accommodation due to a disability to fully participate, please contact the individual listed in the FOR FURTHER INFORMATION CONTACT section as soon as possible.

Comments: Members of the public are invited to provide comment on issues that will be considered by the committee as listed in the SUPPLEMENTARY INFORMATION section below. Associated materials that may be discussed during the meeting will be made available for review at https://www.cisa.gov/nstac on November 16, 2022. Comments should be submitted by 5:00 p.m. ET on November 22, 2022 and must be identified by Docket Number CISA-2022-0009. Comments may be submitted by one of the following methods:

• Federal eRulemaking Portal: www.regulations.gov. Please follow the instructions for submitting written comments.

• Email: NSTAC@cisa.dhs.gov. Include the Docket Number CISA-2022-0009 in the subject line of the email.

Instructions: All submissions received must include the words “Department of Homeland Security” and the Docket Number for this action. Comments received will be posted without alteration to www.regulations.gov, including any personal information provided. You may wish to review the Privacy & Security Notice available via a link on the homepage of www.regulations.gov.

Docket: For access to the docket and comments received by the NSTAC, please go to www.regulations.gov and enter docket number CISA-2022-0009.

A public comment period is scheduled to be held during the meeting from 4:30 p.m. ET to 4:40 p.m. ET. Speakers who wish to participate in the public comment period must email NSTAC@cisa.dhs.gov to register. Speakers should limit their comments to 3 minutes and will speak in order of registration. Please note that the public comment period may end before the time indicated, following the last request for comments.

FOR FURTHER INFORMATION CONTACT: Christina Berger, 202- 701-6354, NSTAC@cisa.dhs.gov.

SUPPLEMENTARY INFORMATION: The NSTAC is established under the authority of Executive Order (E.O.) 12382, dated September 13, 1982, as amended by E.O. 13286, continued and amended under the authority of E.O. 14048, dated September 30, 2021. Notice of this meeting is given under FACA, 5 U.S.C. appendix (Pub. L. 92-463). The NSTAC advises the President on matters related to national security and emergency preparedness (NS/EP) telecommunications and cybersecurity policy.

Agenda: The NSTAC will meet in an open session on Thursday, December 1, 2022, from 3:30 p.m. ET to 5 p.m. ET to discuss current NSTAC activities and the government's ongoing cybersecurity and NS/EP communications initiatives. This open session will include: (1) a keynote address;(2) a status update on NSTAC recommendations; and (3) a deliberation and vote on the NSTAC Report to the President on a Strategy for Increasing Trust in the Information and Communications Technology and Services Ecosystem.

The committee will also meet in a closed session from 1 p.m. ET to 3 p.m. ET during which time: (1) senior government intelligence officials will provide a threat briefing concerning threats to NS/EP communications and engage NSTAC members in follow-on discussion; and (2) NSTAC members and senior government officials will discuss potential NSTAC study topics.

Basis for Closure: In accordance with section 10(d) of FACA and 5 U.S.C. 552b(c)(1), The Government in the Sunshine Act, it has been determined that a portion of the agenda requires closure.

These agenda items are the: (1) classified threat briefing and discussion, which will provide NSTAC members the opportunity to discuss information concerning threats to NS/EP communications with senior government intelligence officials; and (2) potential NSTAC study topics discussion. The briefing is anticipated to be classified at the top secret/sensitive compartmented information level. Disclosure of these threats during the briefing, as well as vulnerabilities and mitigation techniques, is a risk to the Nation's cybersecurity posture since adversaries could use this information to compromise commercial and government networks. Subjects discussed during the potential study topics discussion are tentative and are under further consideration by the committee.

Therefore, this portion of the meeting is required to be closed pursuant to section 10(d) of FACA and 5 U.S.C. 552b(c)(1) because it will disclose matters that are classified.

Christina Berger,
Designated Federal Officer, NSTAC, Cybersecurity and Infrastructure Security Agency, Department of Homeland Security.

[FR Doc. 2022-22121 Filed 10-11-22; 8:45 am]

BILLING CODE 4410-10-P